DEPARTMENT OF TRANSPORTATION

Federal Aviation Administration

Notice of Opportunity for Public Comment on Surplus Property Release at the Wetumpka Municipal Airport, Wetumpka, Alabama

AGENCY: Federal Aviation Administration, DOT.

ACTION: Notice of intent to rule on land release request.

SUMMARY: The FAA is considering a request from the City of Wetumpka, Alabama to waive the requirement that 15.81± acres of airport property located at the Wetumpka Municipal Airport in Wetumpka, Alabama, be used for aeronautical purposes.

DATES: Comments must be received on or before December 30, 2019.

ADDRESSES: Comments on this notice may be mailed or delivered in triplicate to the FAA to the following address: Jackson Airports District Office Attn: Luke Flowers, Program Manager, 100 West Cross Street, Suite B Jackson, MS 39208-2307.

In addition, one copy of any comments submitted to the FAA must be mailed or delivered to Wetumpka Municipal Airport, Attn: Ms. Lynn Weldon, Airport Manager, City of Wetumpka, Post Office Box 1180, Wetumpka, AL 36092.

FOR FURTHER INFORMATION CONTACT: Luke Flowers, Program Manager, Jackson Airports District Office, 100 West Cross Street, Suite B, Jackson, MS 39208-2307, (601) 664-9898. The land release request may be reviewed in person at this same location.

SUPPLEMENTARY INFORMATION: The FAA is reviewing a request by the City of Wetumpka to release approximately 15.81± acres of airport property at Wetumpka Municipal Airport (08A) under the provisions of Title 49, U.S.C. Section 47153(c). The FAA determined that the request to release property at Wetumpka Municipal Airport (08A) submitted by the Sponsor meets the procedural requirements of the Federal Aviation Administration and the release of the property does not and will not impact future aviation needs at the airport. The FAA may approve the request, in whole or in part, no sooner than thirty days after the publication of this notice. The property will be purchased by Arrowhead Plastics Engineering, which currently leases the land for a plastics fabrication facility. The property is located on the north quadrant of airport property adjacent to Highway 14. The airport will receive fair market value for the property, and the net proceeds from the sale of this property will be used for maintenance and improvements at the Wetumpka Municipal Airport.

Any person may inspect the request in person at the FAA office listed above under FOR FURTHER INFORMATION CONTACT.

In addition, any person may, upon request, inspect the request, notice and other documents germane to the request in person at the Wetumpka Municipal Airport (08A).

Issued in Jackson, Mississippi on November 1, 2019.
Rans D. Black,
Manager, Jackson Airports District Office, Southern Region.

[FR Doc. 2019-25856 Filed 11-27-19; 8:45 am]

BILLING CODE 4910-13-P